DEPARTMENT OF DEFENSE

Office of the Secretary

Defense Health Board (DHB) Meeting

AGENCY: Department of Defense.

ACTION: Notice of meeting.

SUMMARY: Pursuant to the Federal Advisory Committee Act of 1972 (5 U.S.C., Appendix as amended), the Sunshine in the Government Act of 1976 (5 U.S.C. 552b, as amended), and 41 CFR 102-3.150, and in accordance with section 10(a)(2) of Public Law, the following meeting is announced:

Name of Committee: Defense Health Board (DHB).

Dates: April 23 and 24, 2008.

Times: April 23, 2008:

8 a.m.-12 p.m. (Open Session).

1 p.m.-4:15 p.m. (Open Session).

April 24, 2008:

8 a.m.-12 p.m. (Open Session).

Place of Meeting: Hotel Murano, 1320 Broadway Plaza, Tacoma, Washington 98402.

Purpose of the Meeting: The purpose of the meeting is to address and deliberate pending and new Board issues and provide briefings for Board members on topics related to ongoing Board business.

Agenda: The Board will receive an update on the Department's efforts to reengineer the Disability Evaluation Program. The Board will receive reports from the Psychological Health and Traumatic Brain Injury Center of Excellence and the Traumatic Brain Injury External Advisory Subcommittees. The Board will also deliberate recommendations regarding the DoD Pandemic Inflluenza Preparedness Update and Influenza Update.

On April 24, 2008, the Board will receive a Military Vaccine Agency Update of the Vaccine Healthcare Centers and the Biowarfare Countermeasures Subcommittee Report will also be discussed. A question to the Board will be presented on the Joint Pathology Center. A presentation on the DoD Biological Specimen Repositories and Health Risk Assessment, Burn Pit Exposures Balad Air Base. Recommendations on Convalescent Plasma and DHB Chlamydia Recommendations to ASD (HA) will be presented.

Pursuant to 5 U.S.C. 552b, as amended, and 41 CFR 102-3.140 through 102-3.165 and subject availability of space, the Defense Health Board meeting from 8 a.m. to 4:15 p.m. on April 23, 2008 and from 8 a.m. to 5 p.m. on April 24, 2008 is open to the public. Any member of the public wishing to provide input to the Defense Health Board should submit a written statement in accordance with 41 CFR 102-3.140(C) and section 10(a)(3) of the Federal Advisory Committee Act, and the procedures described in this notice. Written statement should be not longer than two type-written pages and must address the following detail: The issue, discussion, and a recommended course of action. Supporting documentation may also be included as needed to establish the appropriate historical context and to provide any necessary background information.

Individuals desiring to submit a written statement may do so through the Board's Designated Federal Officer at the address detailed below at any point. However, if the written statement is not received at least 10 calendar days prior to the meeting, which is subject to this notice, then it may not be provided to or considered by the Defense Health Board until the next open meeting.

The Designated Federal Officer will review all timely submissions with the Defense Health Board Chairperson, and ensure they are provided to members of the Defense Health Board before the meeting that is subject to this notice. After reviewing the written comments, the Chairperson and the Designated Federal Officer may choose to invite the submitter of the comments to orally present their issue during an open portion of this meeting or at a future meeting.

The Designated Federal Officer, in consultation with the Defense Health Board Chairperson, may, if desired, allot a specific amount of time for members of the public to present their issues for review and discussion by the Defense Health Board.

FOR FURTHER INFORMATION CONTACT: Colonel Roger L. Gibson, Executive Secretary, Defense Health Board, Five Skyline Place, 5111 Leesburg Pike, Room 810, Falls Church, Virginia 22041-3206, (703) 681-3279, Ext 123, Fax: (703-681-3321, (roger.gibson@ha.osd.mil ). Additional information, agenda updates, and meeting registration are available online at the Defense Health Board Web site, http://www.ha.osd.mil/dhb. The public is encouraged to register to register for the meeting.

Written statements may be mailed to the above address, e-mailed to dhb@ha.osd.mil or faxed to (703) 681-3321.

Dated: March 17, 2008.
L.M. Bynum,
Alternate OSD Federal Register Liaison Officer, Department of Defense.

[FR Doc. E8-5738 Filed 3-20-08; 8:45 am]

BILLING CODE 5001-06-P